DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before March 21, 2011. Address written comments to Statutory Import Programs Staff, Room 3720, U.S. Department of Commerce, Washington, DC 20230. Applications may be examined between 8:30 a.m. and 5 p.m. at the U.S. Department of Commerce in Room 3720.

Docket Number: 10-034. Applicant: University of Colorado, 12801 E. 17th Ave., RC1 South, Rm 10101, Box 6511, Mailstop 8101, Aurora, CO 80045. Instrument: Singer MSM System 300TSA. Manufacturer: Singer Instrument Co. Ltd., United Kingdom. Intended Use: The instrument will be used to manipulate yeast cells and spores for genetic analysis and construction of strains with particular mutations, pedigree analysis, cell and zygote isolation and cell cycle and cell aging studies. The instrument consists of a micromanipulator device attached to a microscope with a computerized stage that allows the user to keep track of the position. It also has a CCD camera video monitor that reduces the eye strain caused by prolonged peering through microscope objectives. The components of this instrument are specifically designed for work with yeast cells. This instrument is unique because it has a motorized stage, which can be programmed to automatically move to predetermined positions, and the joystick electronic. Justification for Duty-Free Entry: There are no instruments of the same general category being manufactured in the United States. Application accepted by Commissioner of Customs: January 12, 2011.

Docket Number: 10-077. Applicant: University of Chicago LLC, Operators of Argonne National Laboratory, 9700 South Cass Ave., Lemont, IL 60439. Instrument: Batch Furnace. Manufacturer: NGK Insulators Ltd., Japan. Intended Use: The instrument will be used in the synthesis of cathode materials for lithium ion batteries. In particular, the instrument will be applied during the last step of the synthesis—the calcination of the cathode material. The techniques used in calcinations are very dependent on the calcination furnace. This instrument's furnace allows for heating in oxygen flow. The uniformity of heating and oxygen flow is critical to obtain the cathode material because the temperature, together with the oxygen flow, ensures the removal of aqueous residues on the material. The material must be free of water because lithium and water can react and have fatal consequences. This batch furnace includes high distribution of the sample (multiple trays), which allows for faster drying and greater uniformity than a conventional furnace. This batch furnace also has an oxygen control system that has a 10kg batch size. Justification for Duty-Free Entry: There are no instruments of the same general category being manufactured in the United States. Application accepted by Commissioner of Customs: October 14, 2010.

Docket Number: 11-001. Applicant: Michigan State University, 2555 Engineering Building, Department of Mechanical Engineering, East Lansing, MI 48824-1226. Instrument: Diode Pumped High Speed Nd: YAG laser system. Manufacturer: Edgewave GmbH, Germany. Intended Use: The instrument will be used as a diagnostics equipment to study high temperature combustion occurring in a rotary type engine called a “wave disk engine.” The laser will be used to pump a dye laser to generate ultra-violet light which can be used to track chemical species during combustion. The main diagnostics technique will be planar laser fluorescence (PLIF) imaging where the laser light is used to excite target gas species, which can then be imaged using an intensified CCD camera. The main feature of the laser, which is particularly suited for the necessary application, is the beam profile (M²<2) and energy stability over lengthy operation times, which is critical when quantifying combustion species using PLIF over different operation modes. This is the only laser that can do sub 10 ns pulses with all the different specifications. Justification for Duty-Free Entry: There are no instruments of the same general category being manufactured in the United States. Application accepted by Commissioner of Customs: December 2, 2010.

Docket Number: 11-009. Applicant: UChicago Argonne LLC, 9700 South Cass Ave., Lemont, IL 60439-4873. Instrument: Electrode Coater. Manufacturer: A-Pro Co., Ltd, South Korea. Intended Use: The instrument will be used to aid the development of novel lithium-ion battery materials. The experiments to be conducted with this instrument involve making electrodes for lithium-ion cells with varying amounts and types of active materials in the electrodes and electrolytes. The cells are then subjected to electrochemical performance testing to determine the influence of the active materials under test. The objective is to make lithium-ion cells in a rigid cylindrical (18650) format and compare the results against lithium-ion cells made in a flexible (pouch) format. Key to this research is the ability to make high quality electrodes that can be used in either the 18650 cell or pouch cells. These electrodes are made with an electrode coating machine that needs to be semi-automated and suitable for a laboratory environment, and specially tailored for lithium-ion electrodes. Justification for Duty-Free Entry: There are no instruments of the same general category being manufactured in the United States. Application accepted by Commissioner of Customs: January 24, 2011.

Docket Number: 11-010. Applicant: University of Wisconsin—Madison Materials Science Center, 1509 University Avenue Madison, WI 53706. Instrument: Vitrobot Mark IV. Manufacturer: FEI Company, the Netherlands. Intended Use: The instrument will be used to directly obtain real-space images of native surfactant nanostrutctures in aqueous solutions. Typical materials include samples of a poly(vinyl-alcohol)-derived block copolymer surfactant in aqueous solution, beta-peptide nanorods, and highly ordered lyotropic liquid crystalline aggregates. The experiments to be conducted are to make various combinations of the basic molecules in aqueous solution, and vitrify the samples so they can be placed in an electron microscope to study how the mixtures choose to self-assemble. The specific features that make this instrument unique include the folllowing: instrumental parameters must be computer controlled and enable storing of parameter protocols, including humidity, blotting time and pressure, and equilibration time; mitigation of errors must be derived from the handling of TEM grids including loading, application of sample, plunging, and transfer to storage by automating some of these tasks; and sample blotting must be done automatically with user controlled programmable blot times and pressures. Justification for Duty-Free Entry: There are no instruments of the same general category being manufactured in the United States. Application accepted by Commissioner of Customs: January 21, 2011.

Docket Number: 11-011. Applicant: National Superconducting Cyclotron Laboratory (NSCL) at Michigan State University, 1 Cyclotron Laboratory South Shaw Lane East Lansing, MI 48824-1321. Instrument: Differential Plunger Device. Manufacturer: Institut fur Kernphysik—Universitat zu koln (Cologne Univ.), Germany. Intended Use: The instrument will be used to measure lifetimes of bound and unbound states in rare isotopes with rare isotope beams. Collective motions of nuclei and nuclear reactions will be studied using rare isotope beams. Rare isotopes will be produced using nuclear reactions of stable isotopes accelerated by the existing coupled cyclotron facility. The instrument is specific to the research in level lifetime measurements of rare isotopes. Justification for Duty-Free Entry: There are no instruments of the same general category being manufactured in the United States. Application accepted by Commissioner of Customs: January 25, 2011.

Docket Number: 11-014. Applicant: Purdue University, Herrick Laboratories, 140 S. Martin Jischke Drive, West Lafayette, IN 47907. Instrument: Vibration Test System—Shaker in Trunion with Matching Amplifier and Cooling Blower. Manufacturer: TIRA, Germany. Intended Use: The instrument will be used to look at the dynamic response of flexible structures. It is a general purpose electrodynamic vibration exciter that will facilitate projects involving phenomenon such as near-resonant linear and nonlinear behaviors, structural health monitoring, vibration amplification and attenuation, and energy harvesting. Features of the instrument include its arbitrary excitation angle, large frequency, force, displacement range and spectral output purity. This instrument was unique in that it included the ability to rotate to varying degrees. Justification for Duty-Free Entry: There are no instruments of the same general category being manufactured in the United States. Application accepted by Commissioner of Customs: January 7, 2011.

Docket Number: 11-017. Applicant: UChicago Argonne, LLC, 9700 S. Cass Ave., Lemont, IL 60439. Instrument: Electron Guns for Caribu EBIS Charge Breeder. Manufacturer: Budker Institute of Nuclear Physics, Russia. Intended Use: The instrument will be used to study and optimize parameters of the Electron Beam Ion Source (EBIS) charge breeder for effective further acceleration of rare isotope ion beams by the Argonne Tandem Linear Accelerator System (ATLAS). The experiments conducted will include off-line optimization of EBIS charge breeder efficiency by optimization of ion beam injection and extraction optics. The main requirement to the EBIS charge breeder is its high efficiency and long maintenance free operational period. Justification for Duty-Free Entry: There are no instruments of the same general category being manufactured in the United States. Application accepted by Commissioner of Customs: February 2, 2011.

February 23, 2011.
Gregory Campbell,
Acting Director, IA Subsidies Enforcement Office.

[FR Doc. 2011-4517 Filed 2-28-11; 8:45 am]

BILLING CODE 3510-DS-P